DEPARTMENT OF HEALTH AND HUMAN SERVICES

Office of Child Support Enforcement

45 CFR Part 303

RIN 0970-AB97

National Medical Support Notice; Delay of Effective Date

AGENCY: Office of Child Support Enforcement, HHS.

ACTION: Final rule; Delay of effective date.

SUMMARY: In accordance with the memorandum of January 20, 2001, from the Assistant to the President and Chief of Staff, entitled “Regulatory Review Plan,” published in the Federal Register on January 24, 2001, this action temporarily delays for 60 days the effective date of the rule entitled “National Medical Support Notice”, published in the Federal Register on December 27, 2000 (65 FR 82154). That rule concerns a statutory obligation that the secretary of health and human services require in regulation that state child-support enforcement agenceis use a standard form—entitled the National Medical Support Notice—to notify employers of the terms of a non-custodial parent's obligations regarding health insurance coverage under a child support agreement. To the extent that 5 U.S.C. section 553 applies to this action, it is exempt from notice and comment because it constitutes a rule of procedure under 5 U.S.C. section 553(b)(A). Alternatively, the Department's implementation of this rule without opportunity for public comment, effective immediately upon publication today in the Federal Register, is based on the good cause exceptions in 5 U.S.C. section 553(b)(B) and 553(d)(3), in that seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. In addition, allowing the rule to become effective before the temporary suspension date could create confusion among State agencies, employees, and Plan administrators regarding the qualified status of National Medical Support Notices that may be issued by some states before and during the suspension period.

DATES: The effective date of National Medical Support Notice, published in the Federal Register on December 27 (FR 65 82154) is delayed for 60 days, from January 26, 2001 to a new effective date of March 27, 2001.

FOR FURTHER INFORMATION CONTACT: Elizabeth Matheson, Office of Child Support Enforcement Policy, (202) 410-9386.

Dated: January 25, 2001.
David Satcher,
Acting Secretary.

[FR Doc. 01-2580 Filed 1-25-01; 1:25 pm]

BILLING CODE 4184-01-P